DEPARTMENT OF AGRICULTURE

Forest Service

Duchesne Ranger District, Ashley National Forest, UT; South Unit Oil and Gas Development EIS

AGENCY: Forest Service, USDA.

ACTION: Notice of intent to prepare an environmental impact statement.

SUMMARY: The Forest Supervisor of the Ashley National Forest gives notice of the intent to prepare an environment impact statement (EIS) to document the analysis and disclose the impacts of an oil and gas development project on lands administered by the Ashley National Forest. The EIS analysis are includes approximately 25,900 acres on the South Unit of the Ashley National Forest in Duchesne County, Utah. The proposed project is located 11 miles south of Duchesne County, Utah in Township 6 South, Ranges 4 and 5 West. Any authorizations and actions proposed for approval in the EIS will be evaluated to determine if they are consistent with direction in the 1986 Ashley National Forest Land and Resource Management Plan (Forest Plan).

DATES: Comments concerning the scope of the analysis must be received within 45 days of publication of this notice in the Federal Register. The draft environmental impact statement is expected in June 2008 and the final environmental impact statement is expected in November 2008.

ADDRESSES: Send written comments to David Herron, Project Lead, Ashley National Forest, 355 North Vernal Avenue, Vernal, Utah 84078; phone: (435) 781-5218. Electronic comments may be sent to comments-intermtn-ashley-duchesne@fs.fed.us. Email correspondence should include the project name in the subject line. Any attachments must be submitted in MS Word (*.doc) or rich text format (*.rtf) and should include the project name in the document title. Written comments may also be dropped off at the above address during regular business hours (8 a.m. to 5 p.m.), Monday-Friday.

FOR FURTHER INFORMATION CONTACT: David Herron, Project Lead, Ashley National Forest, 355 North Vernal Avenue, Vernal, Utah 84078; phone: (435) 789-1181; e-mail: daherron@fs.fed.us.

SUPPLEMENTARY INFORMATION:

Purpose and Need for Action

The purpose and need for this project is to respond to a formal proposal from the Berry Petroleum Company (Berry), to exercise their lease rights, and develop oil and gas resources within their existing federal oil and gas leases, located on the South Unit of the Ashley National Forest. The purpose and need is also to identify the terms and conditions necessary to protect surface resources and prevent conflicts with other activities, programs and users in the area of operations.

Proposed Action

In January 2007, Berry submitted a proposal to the Forest Service to drill up to 400 oil and gas wells on federal mineral leases the Company holds on approximately 25,900 acres in the South Unit of Ashley National Forest. If economically recoverable oil or gas reserves were identified from exploratory drilling, those wells would be put into production. Wells would be drilled from well pads constructed of native soil and rock material using standard cut and fill methods. Well pad construction would require an estimated 2.5 acres of surface disturbance per well pad. If economic quantities of oil and/or gas are found as a result of the drilling of vertical wells, Berry may attempt to directionally drill from some or all of the same well pads to assess whether oil and gas resources can be reached and successfully produced from directional wells. Approximately 100 miles of new access roads and 21 miles of upgraded existing roads would be constructed to reach the proposed well pad sites. The proposal calls for a 20-year construction and drilling period.

Lead and Cooperating Agencies

The Forest Service is the lead agency. The Bureau of Land Management will participate as a cooperating agency. Other eligible agencies may also participate as cooperating agencies.

Responsible Official

The Responsible Official is Kevin B. Elliott, Forest Supervisor, Ashley National Forest, 355 North Vernal Avenue, Vernal, UT 84078.

Nature of Decision To Be Made

The responsible official will decide whether to allow development to occur as proposed or to allow implementation of a reasonable alternative to the proposed action. The selected alternative will establish the terms, conditions, and mitigations needed to protect surface resources during the proposed oil and gas development. Specific ground disturbing developments (wells, roads, compressors, etc.) would require additional analysis prior to implementation, to determine whether those developments are consistent with the scope and requirements of the selected alternative. Approval for such actions on individual well sites would be conducted through the Application for a Permit to Drill (APD) process, in cooperation with the Bureau of Land Management (BLM).

Scoping Process

The Forest Service is seeking information, comments, and assistance from federal, state, and local agencies and individuals or organizations interested in or affected by the proposed action. The comment period on the proposed action will be 45 days from the date this Notice of Intent is published in the Federal Register. Copies of this Notice of Intent will be distributed to interested parties via mailings, posting on the Ashley National Forest Web site (http://www.fs.fed.us/r4/ashley/projects/), and publication in the Uintah Basin Standard newspaper. Requests to be added to the mailing list for this project should be sent to: David Herron, Project Leader, Ashley National Forest, 355 North Vernal Avenue, Vernal, Utah 84078, or e-mail to daherron@fs.fed.us. A series of public meetings will be scheduled during the scoping period to describe the proposal and to provide an opportunity for public input. Public meetings are being planned for Salt Lake City, Duchesne, and Vernal, Utah. Dates and locations for these meetings will be made available via a mailed scoping notice, the Ashley National Forest Web site, and the Uintah Basin Standard.

Preliminary Issues

Issues that may be analyzed in all alternatives include: The socioeconomic effects of oil and gas development and associated activities; effects on terrestrial and aquatic flora and fauna, including threatened and endangered species, sensitive species, and management indicator species; effects on both developed and dispersed recreation; effects on air quality; effects on water resources, including wetlands, floodplains, riparian areas, private and municipal water systems, and groundwater; effects on visual resources; effects on soils and geologic hazards; effects on cultural resources; effects on upland and riparian vegetation; effects on other mineral resource extraction activities; and effects on noxious weeds and invasive species. Issues may be added or refined based on public comments and internal review.

Comment Requested

This notice of intent initiates the scoping process which guides the development of the environmental impact statement. The Forest Service requests comments on the nature and scope of the environmental, social, and economic issues, and possible alternatives specifically related to oil and gas development on Ashley National Forest lands currently leased by Berry Petroleum.

Early Notice of Importance of Public Participation in Subsequent Environmental Review: A draft environmental impact statement will be prepared for comment. The comment period on the draft environmental impact statement will be 60 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60-day comment period so that substantive comments and objections are made available to the Forest Service at a time when it can meaningfully consider them and respond to them in the final environmental impact statement.

To assist the Forest Service in identifying and considering issues and concerns on the proposed action, comments on the draft environmental impact statement should be specific as possible. It is also helpful if comments refer to specific pages or chapters of the draft statement. Comments may also address the adequacy of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 20, 2007.
Kevin B. Elliott,
Forest Supervisor.

[FR Doc. 07-4227 Filed 8-28-07; 8:45 am]

BILLING CODE 3410-11-M